ENVIRONMENTAL PROTECTION AGENCY

[OPPTS-51948; FRL-6599-8]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from May 22, 2000 to June 23, 2000, consists of the PMNs, both pending or expired, and the notices of commencement to manufacture a new chemical that the Agency has received under TSCA section 5 during this time period.

ADDRESSES: Comments may be submitted by mail, electronically, or in person. Please follow the detailed instructions for each method as provided in Unit I. of the SUPPLEMENTARY INFORMATION. To ensure proper receipt by EPA, it is imperative that you identify docket control number OPPTS-51948 and the specific PMN number in the subject line on the first page of your response.

FOR FURTHER INFORMATION CONTACT: Barbara Cunningham, Director, Office of Program Management, and Evaluation, Office of Pollution Prevention and Toxics (7401), Office of Pollution Prevention and Toxics, Environmental Protection Agency, Ariel Rios Bldg., 1200 Pennsylvania Ave., NW., Washington, DC 20460; telephone numbers: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations” and then look up the entry for this document under the “Federal Register—Environmental Documents.” You can also go directly to the “Federal Register” listings at http://www.epa.gov/fedrgstr/.

2. In person. The Agency has established an official record for this action under docket control number OPPTS-51948. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51948 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51948 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from May 22, 2000 to June 23, 2000, consists of the PMNs and TMEs, both pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 131 Premanufacture Notices Received From: 05/22/00 to 06/23/00
Case No. | Received Date | Projected Notice End Date | Manufacturer/Importer | Use | Chemical
P-00-0836 | 05/22/00 | 08/20/00 | Ashland Inc. | (G) Adhesive | (G) Modified copolymer of acrylic esters and styrene
P-00-0837 | 05/22/00 | 08/20/00 | Dow Corning Corporation | (S) Filler treatment | (S) Cyclosiloxanes, di-me, me vinyl*
P-00-0838 | 05/22/00 | 08/20/00 | Eastman Kodak Company | (G) Contained use in an article | (G) Substituted alkylsulfonamide
P-00-0839 | 05/22/00 | 08/20/00 | Harwick Chemical Manufacturing Corporation | (S) Solid plasticizer for rubber | (G) Vegetable oil, chlorosulfurized
P-00-0840 | 05/22/00 | 08/20/00 | Harwick Chemical Manufacturing Corporation | (S) Solid plasticizer for rubber | (G) Vegetable oil, chlorosulfurized
P-00-0841 | 05/22/00 | 08/20/00 | Harwick Chemical Manufacturing Corporation | (S) Solid plasticizer for rubber | (G) Vegetable oil, chlorosulfurized
P-00-0842 | 05/22/00 | 08/20/00 | Harwick Chemical Manufacturing Corporation | (S) Solid plasticizer for rubber | (G) Vegetable oil, sulfurized
P-00-0843 | 05/22/00 | 08/20/00 | Harwick Chemical Manufacturing Corporation | (S) Solid plasticizer for rubber | (G) Vegetable oil, sulfurized
P-00-0844 | 05/22/00 | 08/20/00 | Harwick Chemical Manufacturing Corporation | (S) Solid plasticizer for rubber | (G) Vegetable oil, sulfurized
P-00-0845 | 05/23/00 | 08/21/00 | CBI | (G) Impact modifier for epoxy resin | (G) Epoxy nitrile rubber amine adduct
P-00-0846 | 05/23/00 | 08/21/00 | CBI | (S) Inks; coatings | (G) Polyester acrylate
P-00-0847 | 05/24/00 | 08/22/00 | CBI | (S) Component of wire enamels used in electrical industry | (G) Cresol-blocked isocyanate
P-00-0848 | 06/02/00 | 08/31/00 | Denka Corporation | (S) Expansive additive for concrete | (S) Limestone, reaction product with bauxite and gypsum
P-00-0849 | 05/25/00 | 08/23/00 | Nova Molecular Technologies, Inc. | (S) Corrosion inhibitor; chemical intermediate; extraction solvent | (S) Morpholine, 4-(1,1-dimethylethyl)-*
P-00-0850 | 05/26/00 | 08/24/00 | Inx International Ink Company | (G) Dispersing agent | (G) Phenol, polymer with formaldehyde, glycidyl ether, reaction products with carbomonocyclic carboxylic acid and hydroxy alkanoic acid homopolymer
P-00-0851 | 05/26/00 | 08/24/00 | Bic USA Inc. | (G) A colorant for inks | (G) C.i. solvent blue 38
P-00-0852 | 05/26/00 | 08/24/00 | Bic USA Inc. | (G) A colorant for inks | (G) C.i. solvent blue 38
P-00-0853 | 05/26/00 | 08/24/00 | Bic USA Inc. | (G) A colorant for inks | (G) C.i. solvent blue 37
P-00-0854 | 05/26/00 | 08/24/00 | Bic USA Inc. | (G) A colorant for inks | (G) C.i. solvent blue 37
P-00-0855 | 05/25/00 | 08/23/00 | CBI | (G) Open, non-dispersive use | (G) Fatty acids, C16-18 and C18-unsatd., branched and linear, polymers with an epoxy resin, C18-unsatd. fatty acid dimers and triethylenetetramine
P-00-0856 | 05/30/00 | 08/28/00 | CBI | (G) Open, non-dispersive use | (G) Hydroxy functional amino ester
P-00-0857 | 05/30/00 | 08/28/00 | CBI | (G) Toner chemical | (G) Polyester resin
P-00-0858 | 05/31/00 | 08/29/00 | Gaco Western, Inc. | (S) Single component moisture cured elastomeric waterproofing membrane | (S) 1,3-pentanediol, 2,2,4-trimethyl-, polymer with 1,3-diisocyanatomethyl- benzene, a-hydro-omega-hydroxypoly[oxy (methyl-1,2-ethanediyl)] and α,α′,α″-1,2,3-propanetriyltris [omega-hydroxy- poly[oxy(methyl-1,2-ethanediyl)]]*
P-00-0859 | 05/30/00 | 08/28/00 | CBI | (G) Toner chemical | (G) Polyester resin
P-00-0860 | 05/31/00 | 08/29/00 | Dow Corning Corporation | (S) Thermoplastic resin additive | (G) Alkylsiloxane-modified polyalkylene resin
P-00-0861 | 05/31/00 | 08/29/00 | CBI | (G) This substance in combination with other proprietary additives result in a mixture of components which collectively have unique antistatic properties | (G) Trineoalkoxy amino zirconate
P-00-0862 | 05/31/00 | 08/29/00 | CBI | (G) This substance in combination with other proprietary additives result in a mixture of components which collectively have unique antistatic properties. | (G) Tri neoalkoxy sulfonyl zirconate
P-00-0863 | 05/31/00 | 08/29/00 | The P. D. George Company | (S) Electrical insulation varnish | (G) Carboxylic acid, polymer with 1,2-ethanediol, 2,5-furandione and alicyclic compound
P-00-0864 | 05/31/00 | 08/29/00 | CBI | (G) Open, non-dispersive (coating resin) | (G) Urethane acrylate
P-00-0865 | 06/01/00 | 08/30/00 | Dow Corning Corporation | (S) Anti-misting additive for silicone release coatings | (G) Dimethyl, methylalkyl, methylaryl siloxane
P-00-0866 | 06/01/00 | 08/30/00 | Dow Corning Corporation | (S) Anti-misting additive for silicone release coatings | (G) Dimethyl, methylalkyl, methylaryl siloxane
P-00-0867 | 06/01/00 | 08/30/00 | Dow Corning Corporation | (S) Anti-misting additive for silicone release coatings | (G) Dimethyl, methylalkyl, methylaryl siloxane
P-00-0868 | 06/01/00 | 08/30/00 | CBI | (G) Commercial and consumer contained use in an article | (G) Pyrazolotriazole derivative
P-00-0869 | 06/01/00 | 08/30/00 | 3M Company | (S) Adhesive | (G) Polyurethane
P-00-0870 | 06/02/00 | 08/31/00 | 3M Company | (S) Chemical intermediate | (G) Acrylate terpolymer
P-00-0871 | 06/02/00 | 08/31/00 | CBI | (G) Process catalyst | (G) Reaction product of halogenated arylammonium salt, alkylaluminum and substituted carbomonocyclic metal compound
P-00-0872 | 06/02/00 | 08/31/00 | Dyneon LLC | (S) Fluoroelastomer for making molded parts | (G) Fluoroelastomer
P-00-0873 | 06/02/00 | 08/31/00 | CBI | (G) Component of adhesives, inks, and clear varnishes | (G) Urethane acrylate
P-00-0874 | 06/02/00 | 08/31/00 | CBI | (G) Component of adhesives, inks, and clear varnishes | (G) Urethane acrylate
P-00-0875 | 06/05/00 | 09/03/00 | Ashland Inc. | (G) Organic foundry binder | (G) Modified phenol-formaldehyde resin
P-00-0876 | 06/05/00 | 09/03/00 | Ashland Inc. | (G) Organic foundry binder | (G) Modified phenol-formaldehyde resin
P-00-0877 | 06/05/00 | 09/03/00 | Ashland Inc. | (G) Organic foundry binder | (G) Modified phenol-formaldehyde resin
P-00-0878 | 06/05/00 | 09/03/00 | Ashland Inc. | (G) Organic foundry binder | (G) Modified phenol-formaldehyde resin
P-00-0879 | 06/05/00 | 09/03/00 | Ashland Inc. | (G) Stripper, open non-dispersive use | (G) Amide
P-00-0880 | 06/05/00 | 09/03/00 | DMC-2, L.P. | (G) Intermediate chemical | (S) 1,2,3 propanetricarboxylic acid, 2-hydroxy-, bismuth(3+) salt (1:1)*
P-00-0881 | 06/05/00 | 09/03/00 | Gelest, Inc. | (S) Component in resin formulation for coating glass; r+d purposes | (G) Silane ester
P-00-0882 | 06/05/00 | 09/03/00 | Gelest, Inc. | (S) Intermediate for conversion to final product research purposes | (S) Benzene, bis[(trichlorosilyl) ethyl]-*
P-00-0883 | 06/04/00 | 09/02/00 | Nagase America Corporation | (G) Paper coating | (G) Reaction products of hydroxybenzoic acid and polyhydroxymethylbutane
P-00-0884 | 06/06/00 | 09/04/00 | H.B. Fuller Company | (S) Prepolymer for moisture-cure adhesive | (G) Polyester polyether isocyanate polymer
P-00-0885 | 06/06/00 | 09/04/00 | H.B. Fuller Company | (S) Prepolymer for moisture-cure adhesive | (G) Polyester polyether isocyanate polymer
P-00-0886 | 06/06/00 | 09/04/00 | H.B. Fuller Company | (S) Moisture-cure adhesive | (G) Polyester polyether isocyanate polymer
P-00-0887 | 06/06/00 | 09/04/00 | H.B. Fuller Company | (S) Moisture-cure adhesive | (G) Polyester polyether isocyanate polymer
P-00-0888 | 06/02/00 | 08/31/00 | CBI | (G) Open, non-dispersive use | (G) Hydroxy functional acrylic polymer
P-00-0889 | 06/05/00 | 09/03/00 | Cognis Corporation | (G) Defoaming agent | (S) Fatty acids, C16-18 and C18-unsatd., triesters with polyethylene-polypropylene glycol ether and glycerol*
P-00-0890 | 06/06/00 | 09/04/00 | CBI | (G) Resin coating | (G) Cyclohexane, 1.1′methylenebis[4-isocyanato-polymer with 2-propenoic acid, 2-hydroxyethyl ester, 2-propenoic acid, 2-methyl-monoester with 1,2-propanediol, methyl oxirane and alkanol
P-00-0891 | 06/05/00 | 09/03/00 | CBI | (G) Resin coating | (G) Polyester resin
P-00-0892 | 06/05/00 | 09/03/00 | CBI | (G) Resin coating | (G) Polyester resin
P-00-0893 | 06/05/00 | 09/03/00 | CBI | (G) Resin coating | (G) Polyester resin
P-00-0894 | 06/05/00 | 09/03/00 | H.B. Fuller Company | (S) Film laminating adhesive for packaging and converting. volumes and use pertaining to each substance of pmn seperately. | (G) Polyether polyurethane polymer
P-00-0895 | 06/05/00 | 09/03/00 | H.B. Fuller Company | (S) Film laminating adhesive for packaging and converting. volumes and use pertaining to each substance of pmn seperately. | (G) Polyether polyurethane polymer
P-00-0896 | 06/05/00 | 09/03/00 | H.B. Fuller Company | (S) Film laminating adhesive for packaging and converting. volume and use pertaining to each substance of pmn seperately. | (G) Polyether polyurethane polymer
P-00-0897 | 06/05/00 | 09/03/00 | H.B. Fuller Company | (S) Film laminating adhesive for packaging and converting. volume and use pertaining to each substance of pmn seperately. | (G) Polyether polyurethane polymer
P-00-0898 | 06/05/00 | 09/03/00 | CBI | (G) Drilling additive | (G) Amine salt
P-00-0899 | 06/05/00 | 09/03/00 | CBI | (G) Industrial rubber to metal vulcanization bonding primer component for open, non-dispersive use | (G) Urea alkoxy silane
P-00-0900 | 06/05/00 | 09/03/00 | CBI | (G) This site limited intermediate will be consumed in the manufacture of a multifunctional ingredient to be used in the production of complex gear lubricants, tractor hydraulic fluids, and combustion engine lubricants preparations. this intermediate has no anticipated commercial use as a product in its own right | (G) Polyalkene, sulfonated
P-00-0901 | 06/05/00 | 09/03/00 | CBI | (G) The notified substance will be used as a promoter in the formation of complex gear oil lubricants, an ingredient in tractor hydraulic oil formulations which have improved frictional and water tolerance properties, and possibly as a detergent additive in formulations for combustion engine lubrication | (G) Polyalkylene sulfonate, salts
P-00-0902 | 06/06/00 | 09/04/00 | CBI | (S) Curing agent for epoxy resins in adhesives and coating applications | (G) Epoxy polyamine adduct
P-00-0903 | 06/07/00 | 09/05/00 | CBI | (G) Open, non-dispersive use (polymer) | (G) Hydrogenated nitrile polymer
P-00-0904 | 06/05/00 | 09/03/00 | Reichhold, Inc. | (G) Hot melt polyurethane adhesive | (G) Hot melt polyurethane adhesive
P-00-0905 | 06/07/00 | 09/05/00 | CBI | (S) Brightener for electroplating | (G) Synthesis with polyamine and chloro propylene oxide, aliphatic amine polyglycol mixture
P-00-0906 | 06/07/00 | 09/05/00 | CBI | (S) Component of wire enamels used in electrical industry | (G) Aromatic dicarboxylic acid polymer with 1,3-dihydro-1,3-dioxo-5-isobenzofuran-carboxylic acid and 1,1′-methylenebis[4-isocyanatobenzene]
P-00-0907 | 06/07/00 | 09/05/00 | CBI | (G) Open, non-dispersive use. | (G) Hydroxy functional acrylic polymer
P-00-0908 | 06/07/00 | 09/05/00 | Schill + seilacher | (S) Anti-static component of synthetic fiber spinfinishes | (S) Ethanol, 2,2′,2″-nitrilotris-, compd. with a-decyl-omega-hydroxypoly(oxy-1,2-ethanediyl) phosphate*
P-00-0909 | 06/07/00 | 09/05/00 | Schill + Seilacher | (G) Component of spinfinish in textile fabrication-open non-dispersive use | (S) Poly(oxy-1,2-ethanediyl), a-decyl-omega-hydroxy-, phosphate, ammonium salt*
P-00-0910 | 06/08/00 | 09/06/00 | CBI | (S) Component of wire enamels used in electrical industry | (G) Cresol-blocked isocyanate
P-00-0911 | 06/09/00 | 09/07/00 | E. I. Dupont De Nemours & Company, Inc. | (G) Intermediate (closed destructive use) | (G) Perfluorinated organic peroxide
P-00-0912 | 06/09/00 | 09/07/00 | CBI | (G) Synthetic resin | (G) Epoxy resin containing phosphorus
P-00-0913 | 06/09/00 | 09/07/00 | CBI | (G) Colorant for non-aqueous formulations | (G) Polyalkoxylated aromatic amine tint
P-00-0914 | 06/12/00 | 09/10/00 | E. I. Dupont De Nemours & Co. | (G) Polyesterification catalyst | (G) Titanium phosphinate complex
P-00-0915 | 06/12/00 | 09/10/00 | Cook Composites & Polymers Co. | (S) Polymer base for marine coatings | (G) Acrylic copolymer resin
P-00-0916 | 06/12/00 | 09/10/00 | CBI | (S) Adhesive to laminate two films together | (G) Toluene diisocyanate terminated polyether polyol
P-00-0917 | 06/13/00 | 09/11/00 | Ciba Specialty Chemicals Corporation | (G) Textile dye | (G) Glycine, n-[3-(substituted)-4-[[5,6(or 6,7)-dichloro-2-benzothiazolyl]azo]phenyl]-n-ethyl-, ethyl ester
P-00-0918 | 06/14/00 | 09/12/00 | CBI | (S) Emulsifier for binder for textile dyeing | (G) Bisphenoxypolyalkylideneglycol
P-00-0919 | 06/14/00 | 09/12/00 | CBI | (S) Curing agent for epoxy resins in adhesive and coatings applications | (G) Epoxy resin adduct of cycloaliphatic amine
P-00-0920 | 06/14/00 | 09/12/00 | CBI | (S) Textile finishing agent | (G) Methacrylate copolymer salt
P-00-0921 | 06/15/00 | 09/13/00 | Shin-etsu Silicones of America, Inc. | (S) Ingredient for silicone grease | (G) Silane treated silica
P-00-0922 | 06/14/00 | 09/12/00 | CBI | (G) Chemical intermediate used in the synthesis of pharmaceuticals | (G) Alkoxy borohydride
P-00-0923 | 06/14/00 | 09/12/00 | Cytec Industries Inc. | (G) Polyurethane adhesive for bonding plastics, films, or textile materials; polyurethane binder for inks | (G) Polyurea-polyurethane dispersion
P-00-0924 | 06/15/00 | 09/13/00 | CBI | (S) Drying catalyst used in formulating surface coatings and inks | (G) Strontium carboxylate
P-00-0925 | 06/14/00 | 09/12/00 | CBI | (G) Component of coating with open use | (G) Acrylic copolymer
P-00-0926 | 06/14/00 | 09/12/00 | CBI | (G) Component of coating with open use | (G) Acrylic copolymer
P-00-0927 | 06/14/00 | 09/12/00 | CBI | (G) Component of coating with open use | (G) Acrylic copolymer
P-00-0928 | 06/14/00 | 09/12/00 | CBI | (G) Component of coating with open use | (G) Acrylic copolymer
P-00-0929 | 06/14/00 | 09/12/00 | CBI | (G) Component of coating with open use | (G) Acrylic copolymer
P-00-0930 | 06/14/00 | 09/12/00 | CBI | (G) Component of coating with open use | (G) Acrylic copolymer
P-00-0931 | 06/19/00 | 09/17/00 | Mitsubishi Gas Chemical Company America, Inc. | (S) Epoxy curing agent | (S) Formaldehyde, polymer with 1,3-benzenedimethanamine and 4(1,1-dimethylethyl)phenol*
P-00-0932 | 06/16/00 | 09/14/00 | Elf Atochem North America, Inc. | (G) Intermediate for commercial peroxide products | (S) Hydroperoxide, 1,1-dimethylethyl, sodium salt*
P-00-0933 | 06/16/00 | 09/14/00 | Elf Atochem North America, Inc. | (G) Intermediate foe commercial peroxide products | (S) Hydroperoxide, 1,1-dimethylethyl, potassium salt*
P-00-0934 | 06/16/00 | 09/14/00 | Elf Atochem North America, Inc. | (G) Intermediate foe commercial peroxide products | (S) Hydroperoxide, 1,1-dimethylpropyl, sodium salt*
P-00-0935 | 06/16/00 | 09/14/00 | Elf Atochem North America, Inc. | (G) Intermediate foe commercial peroxide products | (S) Hydroperoxide, 1,1-dimethylpropyl, potassium salt*
P-00-0936 | 06/16/00 | 09/14/00 | Palmer International, Inc. | (S) Resin modifier for ink; resin modifier for adhesives; plasticizer for paints and coatings | (G) Phenolic modified polymer or resin
P-00-0937 | 06/19/00 | 09/17/00 | CBI | (G) Urethane resin for the coatings and adhesive industry | (G) Poly[oxy(methyl-1,2-ethanediyl)], alpha-hydro-omega-hydroxy-, polymer with 1,1′-methylenebis[4-isocyanatocyclohexane], and an aliphatic alcohol
P-00-0938 | 06/19/00 | 09/17/00 | CBI | (G) Open, non-dispersive (resin) | (G) Blocked polyisocyanate
P-00-0939 | 06/19/00 | 09/17/00 | CBI | (G) Adhesive for Flexible Substrates | (G) Polyester polyurethane
P-00-0940 | 06/19/00 | 09/17/00 | Xerox Corp. | (G) Open, non-dispersive use as a constituent in solid, crayon like inks for computer printers | (G) Polyamide resin
P-00-0941 | 06/19/00 | 09/17/00 | Xerox Corp. | (G) Open, non-dispersive use as a constituent in solid, crayon like inks for computer printers | (G) Aliphatic urethane
P-00-0942 | 06/19/00 | 09/17/00 | CBI | (G) Lubricant additive, contained use | (G) Alkylated naphthylamine
P-00-0943 | 06/19/00 | 09/17/00 | CBI | (G) Component of coating with open use | (G) Aqueous polyurethane
P-00-0944 | 06/19/00 | 09/17/00 | CBI | (G) Component of coating with open use | (G) Aqueous polyurethane
P-00-0945 | 06/19/00 | 09/17/00 | CBI | (G) Component of coating with open use | (G) Aqueous polyurethane
P-00-0946 | 06/19/00 | 09/17/00 | CBI | (G) Component of coating with open use | (G) Aqueous polyurethane
P-00-0947 | 06/19/00 | 09/17/00 | CBI | (G) Component of coating with open use | (G) Aqueous polyurethane
P-00-0948 | 06/20/00 | 09/18/00 | CBI | (G) Binder for architectural coatings | (G) Coconut fatty acid polyester
P-00-0949 | 06/20/00 | 09/18/00 | CBI | (G) Ingredient for use in consumer products: highly dispersive use | (G) Alkoxy alkylmercaptan
P-00-0950 | 06/21/00 | 09/19/00 | Rhodia, Inc./Formerly Albright & Wilson | (S) Adhesion promotor, corrosion inhib. & wetting agent for metal surfaces; adhesion promotor and corrosion inhibitor for paints and coatings; adhesion promotor, coupling agent for minerals and pigments; set retarder for oilfied cements | (S) 2-propenoic acid, polymer with ethenylphosphonic acid*
P-00-0951 | 06/20/00 | 09/18/00 | CBI | (G) Protective industrial coating | (G) Fatty acid modified polyester
P-00-0952 | 06/20/00 | 09/18/00 | H.B. Fuller Company | (S) Moisture-curing for profile laminating | (G) Polyester polyurethane prepolymer
P-00-0953 | 06/20/00 | 09/18/00 | H.B. Fuller Company | (S) Moisture-curing for profile laminating | (G) Polyester polyurethane prepolymer
P-00-0954 | 06/20/00 | 09/18/00 | H.B. Fuller Company | (S) Moisture-curing for profile laminating | (G) Polyester polyurethane prepolymer
P-00-0955 | 06/20/00 | 09/18/00 | H.B. Fuller Company | (S) Moisture-curing for profile laminating | (G) Polyester polyurethane prepolymer
P-00-0956 | 06/20/00 | 09/18/00 | H.B. Fuller company | (S) Film laminating adhesive for packaging and converting. | (G) Polyester polyurethane prepolymer
P-00-0957 | 06/20/00 | 09/18/00 | H.B. Fuller Company | (S) Film laminating adhesive for packaging and converting. | (G) Polyester polyurethane prepolymer
P-00-0958 | 06/22/00 | 09/20/00 | CBI | (G) Industrial fillers | (G) 1-propanethiol, 3-(trisubstituted)-,hydrolysis products with dichlorodimethylsilane and silica
P-00-0959 | 06/22/00 | 09/20/00 | CBI | (G) Industrial fillers | (G) 1-propanethiol, 3-(trisubstituted)-,hydrolysis products with dichlorodimethylsilane and silica
P-00-0960 | 06/22/00 | 09/20/00 | Xerox Corp. | (G) Open, non-dispersive use as a constituent in solid, crayon like inks for computer printers. | (G) Polyakyleneoxy aliphatic urethane
P-00-0961 | 06/22/00 | 09/20/00 | CBI | (G) Open, non-dispersive (resin) | (G) Aliphatic polyisocyanate
P-00-0962 | 06/23/00 | 09/21/00 | H.B. Fuller Company | (S) Moisture-cure laminating adhesive | (G) Polyester polyurethane prepolymer
P-00-0963 | 06/23/00 | 09/21/00 | H.B. Fuller Company | (S) Moisture-cure laminating adhesive | (G) Polyester polyurethane prepolymer
P-00-0964 | 06/23/00 | 09/21/00 | H.B. Fuller Company | (S) Moisture-cure laminating adhesive | (G) Polyester polyurethane prepolymer
P-00-0965 | 06/23/00 | 09/21/00 | H.B. Fuller Company | (S) Moisture-cure laminating adhesive | (G) Polyester polyurethane prepolymer
P-00-0966 | 06/22/00 | 09/20/00 | Archimica Inc. | (S) Agricultural product intermediate | (G) Haloarylalkylketoester
P-00-0985 | 06/21/00 | 09/19/00 | CBI | (S) Laminating adhesive | (G) Aliphatic polyether polyurethane

In table II, EPA provides the following information (to the extent that such information is not claimed as CBI) on the Notices of Commencement to manufacture received:

II. 50 Notices of Commencement From: 05/22/00 to 06/23/00
Case No. | Received Date | Commencement/Import Date | Chemical
P-00-0015 | 06/14/00 | 06/10/00 | (G) Polyoxyalkylene polyester urethane block polymer, salt with phosphorylated polyester
P-00-0038 | 06/12/00 | 05/22/00 | (G) Urethane acrylate
P-00-0199 | 06/19/00 | 06/12/00 | (S) Siloxanes and silicones, di-me, hydroxy-terminated, polymers with silicic acid*
P-00-0302 | 06/13/00 | 05/04/00 | (S) Poly(oxy-1,2-ethanediyl),.alpha., .alpha.′, .alpha.″, .alpha.′″-[1,6-hexanediylbis[(methylnitrilio)di-2,1-ethanediyl)] tetrakis [.omega.-hydroxy-, bis(methyl sulfate) (salt)*
P-00-0317 | 05/22/00 | 05/02/00 | (G) Amino-functional siloxane
P-00-0333 | 05/25/00 | 04/28/00 | (G) Salt of an acrylate copolymer
P-00-0344 | 06/12/00 | 05/11/00 | (G) Mixed polyol-glycerol fatty aid ester
P-00-0354 | 06/23/00 | 06/02/00 | (G) Polyester-polyvinyl modified mdi-based polyurethane
P-00-0359 | 05/23/00 | 04/15/00 | (G) Alkylnaphthalenesulfonic acid
P-00-0362 | 06/13/00 | 05/15/00 | (G) 1,1′-methylenebis[isocyanatobenzene], polymer with polyether polyols, a polyester polyol, and a modified polyvinyl copolymer
P-00-0410 | 06/14/00 | 05/03/00 | (G) Calcium fatty acid complex.
P-00-0431 | 05/25/00 | 05/15/00 | (G) Substituted alicyclic alkenyl benz[e]indolium salt
P-00-0435 | 05/24/00 | 05/09/00 | (G) Aminoalkyl polydimethylsiloxane
P-00-0463 | 06/12/00 | 05/17/00 | (G) Metal salt
P-00-0493 | 06/19/00 | 05/26/00 | (G) Hydroxy-functional solution acrylic
P-00-0512 | 06/08/00 | 05/22/00 | (G) Mixed ammonium/sodium salt of naphthalene azo dyestuff
P-00-0541 | 06/19/00 | 05/28/00 | (G) Chloro nitro phenyl ether
P-00-0583 | 06/15/00 | 06/13/00 | (S) 1-butanaminium, n,n,n-tributyl-, hexafluorophosphate(1-)*
P-94-0339 | 06/12/00 | 05/30/00 | (S) Isopropylmagnesium bromide*
P-94-0899 | 06/09/00 | 06/01/00 | (S) 2-decyltetradecanoic acid*
P-95-0169 | 06/21/00 | 06/03/00 | (S) Morpholine, 4-(1-oxo-2-propenyl)-*
P-95-1050 | 05/26/00 | 01/04/00 | (G) Modified cationic acrylamide polymer
P-95-1072 | 05/26/00 | 03/24/00 | (G) A magnesium, titanium organo-complex compound
P-95-1215 | 06/15/00 | 05/19/00 | (G) Polyester urethane polymer
P-96-0192 | 05/30/00 | 04/26/00 | (G) Dihydropyrrol-2-ylidene derivative
P-96-1406 | 06/05/00 | 11/19/99 | (G) Aminoalkyl-functional alkoxysilane
P-96-1494 | 06/08/00 | 05/11/00 | (G) Silyl phoshonate
P-96-1495 | 06/08/00 | 05/11/00 | (G) Silyl phoshonate
P-97-0116 | 06/13/00 | 03/05/97 | (G) Phthalate-containing polyester polymer
P-98-0040 | 05/23/00 | 02/25/00 | (S) Residues (petroleum), polycyclic arom, hydrocarbon-rich catalytic cracking, polymers with formaldehyde and phenol*
P-98-0082 | 06/19/00 | 06/01/00 | (G) Reactive acrylate
P-98-0083 | 06/19/00 | 05/27/00 | (G) Reactive acrylate
P-98-0084 | 06/19/00 | 06/02/00 | (G) Reactive acrylate
P-98-0257 | 06/12/00 | 05/24/00 | (G) Sodium poly (hydroxyalkyl carboxyalkyl acrylamido sulphate)
P-98-0398 | 05/25/00 | 05/09/00 | (G) Substituted benzophenone
P-98-0646 | 05/26/00 | 05/11/00 | (S) Benzene, ethenyl-, polymer with ethene and 1-propene
P-98-0916 | 06/12/00 | 05/23/00 | (S) Poly(oxy-1,2-ethanediyl), alpha-(phenylmethyl)-omega-hydroxy-*
P-99-0425 | 06/19/00 | 05/18/00 | (G) Polymer of an alkyl phosphate ester, phosphorus pentoxide and an alkyl oxide
P-99-0480 | 06/09/00 | 05/23/00 | (G) Propanoic acid, 3-hydroxy-2-(hydroxymethyl)-2-methyl-, polymer with 1,3-bis (1-isocyanato-1-methylethyl) benzene, diamine, a-hydro-omega-hydroxypoly (oxy-1,4-butanediyl) and 2-methyl-1,3-propanediol, ammonium salt, polyethylene-polypropylene glycol 2-aminopropyl me ether blocked*
P-99-0543 | 06/19/00 | 06/09/00 | (G) Alkali salt of polyalkylene glycol
P-99-0680 | 06/22/00 | 05/25/00 | (S) 1,3-isobenzofurandione, polymer with (chloromethyl)oxirane and 4,4′-(1-methylethylidene)bis[phenol], ester with 2-oxepanone homopolymer 2-[(1-oxo-2-propenyl)oxy)ethyl ester*
P-99-0853 | 05/23/00 | 05/16/00 | (G) Polyester
P-99-0875 | 05/25/00 | 10/19/99 | (G) Methylenebis[isocyanatobenzene], polymer with alkanepolyols, dimethyl terephthalate, benzenepolycarboxylic acid and alkanepolycarboxylic acids
P-99-1060 | 06/15/00 | 05/29/00 | (G) Polyoxyalkylene ether
P-99-1202 | 06/05/00 | 05/02/00 | (G) Sulfonyl azide intermediate
P-99-1226 | 05/30/00 | 05/14/00 | (G) Substituted benzoyl chloride
P-99-1321 | 05/22/00 | 05/02/00 | (G) Vegetable oil, chlorosulfurized
P-99-1329 | 05/22/00 | 05/02/00 | (G) Vegetable oil, sulfurized
P-99-1335 | 06/12/00 | 06/01/00 | (G) Blocked isocyanate
P-99-1373 | 06/09/00 | 06/06/00 | (S) 2-butendioic acid, (2z)-, mono[2- [(2-methyl-1-oxo-2 propenyl)oxy]ethyl]ester*

List of Subjects

Environmental protection, Chemicals, Premanufacturer notices.

Dated: July 27, 2000.
Deborah A. Williams,
Acting Director, Information Management Division, Office of Pollution Prevention and Toxics.

[FR Doc. 00-21200 Filed 8-18-00; 8:45 am]

BILLING CODE 6560-50-F